DEPARTMENT OF LABOR

Occupational Safety and Health Administration

[Docket No. ICR-1218-0237(2004)]

Standard on Additional Requirements for Special Dipping and Coating Operations; Extension of the Office of Management and Budget's Approval of Information-Collection (Paperwork) Requirements

AGENCY: Occupational Safety and Health Administration (OSHA), Labor.

ACTION: Request for comment.

SUMMARY: OSHA requests comments concerning its proposed extension of the information-collection requirements specified by the standard on Additional Requirements for Special Dipping and Coating Operations (29 CFR 1910.126(g)(4)). The provision is to ensure that employers make employees aware of the minimum distance between goods being electrostatically deteared.

DATES: Comments must be submitted by the following dates:

Hard Copy: Your comments must be submitted (postmarked or received) by May 17, 2004.

Facsimile and electronic transmissions. Your comments must be received by May 17, 2004.

ADDRESSES:

I. Submission of Comments.

Regular mail, express delivery, hand-delivery, and messenger service: Submit your written comments and attachments to the OSHA Docket Office, Docket No. ICR-1218-0237 (2004), U.S. Department of Labor, Room N-2625, 200 Constitution Avenue, NW., Washington, DC 20210; OSHA Docket Office and Department of Labor hours of operation are 8:15 a.m. to 4:45 p.m., e.s.t.

Facsimile: If your comments, including any attachments, are 10 pages or fewer, you may fax them to the OSHA Docket Office at (202) 693-1648. You must include the docket number, ICR 1218-0237(2004), in your comments.

Electronic: You may submit comments, but not attachments, through the Internet at http://ecomments.osha.gov.

II. Obtaining Copies of the Support Statement for the Information Collection Request. The Supporting Statement for the Information Collection Request is available for downloading from OSHA's Web site at http://www.osha.gov. The supporting statement is available for inspection and copying in the OSHA Docket Office, at the address listed above. A printed copy of the supporting statement can be obtained by contacting Theda Kenney at (202) 693-2222.

FOR FURTHER INFORMATION CONTACT: Theda Kenney, Directorate of Standards and Guidance, OSHA, U.S. Department of Labor, Room N-3609, 200 Constitution Avenue, NW., Washington, DC 20210; telephone (202) 693-2222.

SUPPLEMENTARY INFORMATION:

I. Submission of Comments in This Notice and Internet Access to Comments and Submissions

You may submit comments in response to this document by (1) hard copy, (2) fax transmission (facsimile), or (3) electronically through the OSHA webpage. Please note you cannot attach materials such as studies or journal articles to electronic comments. If you have additional materials,you must submit three copies of them to the OSHA Docket Office at the address above. The additional materials must clearly identify your electronic comments by name, date, subject and docket number so we can attach them to your comments. Because of security-related problems there may be a significant delay in the receipt of comments by regular mail. Please contact the OSHA Docket Office at (202) 693-2350 for information about security procedures concerning the delivery of material by express delivery, hand delivery and messenger service.

II. Background

The Department of Labor, as part of its continuing effort to reduce paperwork and respondent (i.e., employer) burden, conducts a preclearance consultation program to provide the public with an opportunity to comment on proposed and continuing information-collection requirements in accordance with the Paperwork Reduction Act of 1995 (44 U.S.C. 3506(c)(2)(A)).

This program ensures that information is in the desired format, reporting burden (time and costs) is minimal, collection instruments are clearly understood, and OSHA's estimate of the information collection burden is correct. The Occupational Safety and Health Act of 1970 (the “Act”) authorizes information collection by employers regarding the causes and prevention of occupational injuries, illnesses, and accidents (29 U.S.C. 657).

The standard on Additional Requirements for Special Dipping and Coating Operations, 29 CFR 1910.126(g)(4)), requires employers to post a conspicuous sign near each piece of electrostatic-detearing equipment that notifies employees of the minimum safe distance they must maintain between goods undergoing electrostatic detearing and the electrodes or conductors of the equipment used in the process. Doing so reduces the likelihood of igniting the explosive chemicals used in electrostatic-detearing operations.

III. Special Issues for Comment

OSHA has a particular interest in comments on the following issues:

• Whether the proposed information-collection requirements are necessary for the proper performance of the Agency's functions to protect workers, including whether the information is useful;

• The accuracy of OSHA's estimate of the burden (time and costs) of the information-collection requirements, including the validity of the methodology and assumptions used;

• The quality, utility, and clarity of the information collected; and

• Ways to minimize the burden on employers who must comply; for example, by using automated or other technological information collection and transmission techniques.

IV. Proposed Actions

OSHA is proposing to extend the information-collection (paperwork) requirement specified in the standard on Additional Requirements for Special Dipping and Coating Operations (29 CFR 1910.126(g)(4)). OSHA will summarize the comments submitted in response to this notice, and will include this summary, along with the comments, in its request to OMB to extend the approval of these information-collection requirements.

Type of Review: Extension of currently approved information-collection requirements.

Title: Standard on Additional Requirements for Special Dipping and Coating Operations (29 CFR 1910.126(g)(4)).

OMB Number: 1218-0237.

Affected Public: Business or other for-profit; not-for-profit institutions; Federal government; state, local or tribal governments.

Number of Respondents: 0.

Frequency: Continuous.

Total Responses: 0.

Average Time Per Response: 0.

Estimated Total Burden Hours: 0.

V. Authority and Signature

John L. Henshaw, Assistant Secretary of Labor for Occupational Safety and Health, directed the preparation of this notice. The authority for this notice is the Paperwork Reduction Act of 1995 (44 U.S.C. 3506) and Secretary of Labor's Order No. 5-2002 (67 FR 65008).

Signed at Washington, DC, on March 11, 2004.
John L. Henshaw,
Assistant Secretary of Labor.

[FR Doc. 04-5896 Filed 3-15-04; 8:45 am]

BILLING CODE 4510-26-M